FEDERAL COMMUNICATIONS COMMISSION

[OMB 3060-1222; FR ID 282505]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before May 5, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1222.

Title: Incarcerated People's Communications Services (IPCS) Provider Annual Reporting, Certification, and Other Requirements, WC Docket Nos. 23-62, 12-375.

Form Number(s): FCC Form 2301(a) and FCC Form 2301(b).

Type of Review: Revision of a currently approved collection.

Respondents: Business or other for-profit.

Number of Respondents and Responses: 35 respondents; 38 responses.

Estimated Time per Response: 5 hours-160 hours.

Frequency of Response: Annual reporting and certification requirements, third party disclosure, waiver request and on-occasion reporting requirements.

Obligation to Respond: Mandatory. Statutory authority for this collection of information is contained in sections 1, 2, 4(i)-(j), 5(c), 201(b), 218, 220, 225, 255, 276, 403, and 716 of the Communications Act of 1934, as amended, 47 U.S.C. 151, 152, 154(i)-(j), 155(c), 201(b), 218, 220, 225, 255, 276, 403, and 617, and the Martha Wright-Reed Just and Reasonable Communications Act of 2022, Public Law 117-338, 136 Stat. 6156.

Total Annual Burden: 9,165 hours.

Total Annual Cost: No cost.

Needs and Uses: In 2015, the Commission released the Second Report and Order and Third Notice of Further Proposed Rulemaking, WC Docket No. 12-375, 30 FCC Rcd 12763, 80 FR 79135 (Dec. 18, 2015) (2015 ICS Order), in which it required that inmate calling services (ICS) providers file Annual Reports providing data and other information on their ICS operations, as well as Annual Certifications that the reported information is complete and accurate and complies with the Commission's ICS rules. Pursuant to the authority delegated by the Commission in the 2015 ICS Order, the Wireline Competition Bureau (WCB) created a standardized reporting template (FCC Form No. 2301(a)) and a related certification of accuracy (FCC Form No. 2301(b)), as well as instructions to guide providers through the reporting process. WCB amended those instructions and reporting forms in 2020 and again in 2022. The current instructions and forms are available at https://www.fcc.gov/general/ics-data-collections (last visited Jan. 21, 2025).

In 2022, the Commission released the Fourth Report and Order and Sixth Further Notice of Proposed Rulemaking, WC Docket No. 12-375, FCC 22-76, 87 FR 75496 (Sept. 30, 2022), which adopted requirements to improve access to communications services for incarcerated people with communication disabilities and expanded the scope of the Annual Reports to reflect those new requirements. Specifically, the Commission required ICS providers to list, at a minimum, for each facility served, the types of TRS that can be accessed from the facility and the number of completed calls and complaints for TTY-to-TTY calling, point-to-point American Sign Language (ASL) video calls, and each type of TRS for which access is provided. The Commission also eliminated the safe harbor, adopted in 2015, that had exempted providers from any TRS-related reporting requirements if they either (1) operated in a facility that allowed the offering of additional forms of TRS beyond those mandated by the Commission or (2) had not received any complaints related to TRS calls. The Commission found that the safe harbor was no longer appropriate given the expanded reporting requirements for additional forms of TRS, and the importance of transparency regarding the state of accessible communications in incarceration settings.

On January 5, 2023, the President signed into law the Martha Wright-Reed Just and Reasonable Communications Act of 2022, Public Law 117-338, 136 Stat. 6156 (the Martha Wright-Reed Act or the Act), expanding the Commission's statutory authority over communications services between incarcerated people and the non-incarcerated to include “any audio or video communications service used by inmates . . . regardless of the technology used.” The new Act also amends section 2(b) of the Communications Act of 1934, as amended (the Communications Act) to make clear that the Commission's authority extends to intrastate as well as interstate and international communications services used by incarcerated people.

The Act directs the Commission to “promulgate any regulations necessary to implement” the statutory provisions, including its mandate that the Commission establish a “compensation plan” ensuring that all rates and charges for IPCS “are just and reasonable,” not earlier than 18 months and not later than 24 months after its January 5, 2023 enactment. The Act also requires the Commission to consider, as part of its implementation, the costs of “necessary” safety and security measures, as well as “differences in costs” based on facility size, or “other characteristics.” It also allows the Commission to “use industry-wide average costs of telephone service and advanced communications services and the average costs of a communications service provider” in determining just and reasonable rates. On March 17, 2023, pursuant to the directive that the Commission implement the new Act and establish just and reasonable rates for IPCS services, the Commission released a Notice of Proposed Rulemaking and Order, WC Docket Nos. 23-62, 12-375, FCC 23-19, 88 FR 20804 (2023 IPCS Notice) and 88 FR 19001 (2023 IPCS Order). The Commission sought comment on how to interpret the Act's language to ensure that the Commission implements the statute in a manner that fulfills Congress's intent. Because the Commission is now required or allowed to consider certain types of costs, the Act contemplates that it would undertake an additional data collection. To ensure that it has the data necessary to meet its substantive and procedural responsibilities under the Act, the Commission adopted the 2023 IPCS Order delegating authority to WCB and the Office of Economics and Analytics (OEA) to modify the template and instructions for the then most recent mandatory data collection to the extent appropriate to timely collect such information to cover the additional services and providers now subject to the Commission's authority. On April 28, 2023, WCB and OEA issued a Public Notice, WC Docket Nos. 23-62, 12-375, DA 23-355 (rel. Apr. 28, 2023) seeking comment on all aspects of the proposed data collection. On July 26, 2023, the Bureaus released an Order, WC Docket Nos. 23-62, 12-375, DA 23-638 (rel. July 26, 2023), adopting instructions, a reporting template, and a certification form to implement the 2023 Mandatory Data Collection.

In the 2023 IPCS Order, the Commission delegated authority to WCB and the Consumer and Governmental Affairs Bureau (CGB) (collectively, the Bureaus) to revise the instructions and reporting templates for the Annual Reports. Specifically, the Commission delegated to the Bureaus the authority to modify, supplement, and update the instructions and templates for the Annual Reports, as appropriate, to supplement the information the Commission was to receive in response to the 2023 Mandatory Data Collection.

In August 2023, the Bureaus issued a Public Notice, WC Docket Nos. 23-62, 12-375, DA 23-656, 88 FR 53850 (Aug. 3, 2023) (August 3, 2023 Public Notice), seeking comment on proposed revisions to the instructions, template, and certification form for the Annual Reports, https://www.fcc.gov/proposed-2023-ipcs-annual-reports, to reflect the revised rules improving access to communications services for incarcerated people with communication disabilities adopted in the 2022 ICS Order and to help implement the Martha Wright-Reed Act. See https://www.fcc.gov/document/2023-incarcerated-peoples-communications-services-annual-reports-pn. Further, on August 10, 2023, the Commission published a 60-Day Notice in the Federal Register seeking public comment on the paperwork burdens associated with proposed revisions to the annual reporting instructions, templates, and certification form. August 10, 2023 60-Day Notice, WC Docket Nos. 23-62, 12-375, 88 FR. 54318, 54319 (Aug. 10, 2023) (2023 60-Day Notice). We note that, although our 2023 60-Day Notice sought comment on the paperwork burdens associated with the proposed revisions to the annual reporting instructions, templates, and certification form, we decided to delay seeking OMB approval of these revisions because the Commission had not yet amended its rules to reflect the expanded authority granted by the Martha Wright-Reed Act and because the Bureaus had not yet issued an Order adopting specific revisions to the annual reporting instructions, templates, and certification form. See November 9, 2023 30-Day Notice, WC Docket Nos. 23-62, 12-375, 88 FR 77315 (Nov. 9, 2023) (2023 30-Day Notice).

In July 2024, the Commission released an Order, WC Docket Nos. 23-62, 12, 375, FCC 24-75, 89 FR 77244 (rel. July 22, 2024) (2024 IPCS Order), which implemented the expanded authority granted to the Commission by the Martha Wright-Reed Act. In that Order, the Commission revised its rules by, among other things: adopting permanent rate caps for audio IPCS and interim rate caps for video IPCS; adopting new facility tiers for both audio and video IPCS; prohibiting providers from imposing any ancillary service charges on IPCS consumers; prohibiting providers from making site commission payments associated with IPCS; allowing providers to offer alternate pricing plans for IPCS subject to certain conditions; revising and strengthening existing consumer disclosure and inactive account requirements; and revising and strengthening IPCS accessibility requirements for incarcerated people with disabilities. The 2024 IPCS Order also modified the scope and content of the annual reporting requirements to reflect the reforms adopted under the Martha Wright-Reed Act. The Commission expanded its annual reporting and certification requirements to include the full scope of services and providers now subject to the IPCS rules as it had proposed in the August 3, 2023 Public Notice. The Commission also eliminated the sections of the annual reporting rules mandating the reporting of information on ancillary service charges and site commissions, to reflect the prohibitions of those items adopted in the 2024 IPCS Order. Finally, the Commission reaffirmed and updated its prior delegation of authority to the Bureaus to revise the requirements for the Annual Reports, to reflect the Commission's expanded authority under the Martha Wright-Reed Act and the other actions taken in the 2024 IPCS Order, and directed the Bureaus to pay particular attention to the video IPCS marketplace and the availability and usage of telecommunications relay service (TRS) in exercising this delegated authority.

Pursuant to this updated delegated authority, the Bureaus released a Public Notice, DA 24-918, 89 FR 80449 (rel. Sept. 11, 2024) (September 11, 2024 Public Notice), in which it sought to refresh the record on possible revisions to the Annual Report instructions, templates, and certification form, in addition to those proposed in the August 3, 2023 Public Notice, and to implement the modifications to the annual reporting and certification requirements adopted by the Commission in the 2024 IPCS Order. The Bureaus also sought comment on any additional modifications the Bureaus should consider to make these forms consistent with the new IPCS rules, including the varied compliance dates adopted in the 2024 IPCS Order for the Commission's rate cap and site commission reforms.

On January 8, 2025, the Bureaus released an Order, WC Docket Nos. 23-62, 12-375, DA 25-23 (rel. Jan. 8, 2025) (2025 Annual Reports Order), https://www.fcc.gov/document/2025-ipcs-annual-reports-order, revising the instructions and reporting templates for the Annual Reports, as well as the associated certification form. The revisions reflect the proposals contained in the August 3, 2023 Public Notice and September 11, 2024 Public Notice, with refinements and modifications made in response to comments in support of more streamlined, and therefore less burdensome, reporting obligations. The revisions also reflect the Commission's expanded authority under the Martha Wright-Reed Act, including authority over video IPCS, as well as the reporting requirements proposed in the August 3, 2023 Public Notice regarding access to IPCS by persons with communication disabilities, including access to TRS.

We note that we are addressing the information requirements and burdens of this collection in several discrete steps. In the first step, we sought OMB approval of the requirements in section 64.6040(c) in order to effectuate the improved access to communications services for incarcerated people with communication disabilities required by section 64.6040(c). We received OMB approval of those information collection requirements on December 14, 2023. See 89 FR 269 (Jan. 3, 2024).

In the second step, which is still in process, the Federal Register published a 60-Day Notice on October 25, 2024, inviting comment on the additional information collection requirements imposed by the 2024 IPCS Order. October 25, 2024 60-Day Notice, WC Docket Nos. 23-62, 12-375, 89 FR 85209 (Oct. 25, 2024) (2024 60-Day Notice). We will continue to address the paperwork burdens associated with that portion of this information collection separately from the Annual Reports burdens addressed here. In the 2024 60-Day Notice, we stated that the Commission had not yet issued an order adopting changes to the instructions, templates, and certification form for the Annual Reports. We also stated that upon release of an order adopting any such changes, we would address any paperwork burdens arising from those changes in a subsequent 60-Day Notice under the PRA.

Accordingly, in this 60-Day Notice, we seek comment on the paperwork burdens associated with the specific revisions to the instructions, reporting templates, and certification form adopted in the 2025 Annual Reports Order.

Federal Communications Commission.
Marlene Dortch,
Secretary, Office of the Secretary.

[FR Doc. 2025-03605 Filed 3-5-25; 8:45 am]

BILLING CODE 6712-01-P